DEPARTMENT OF HOMELAND SECURITY

Coast Guard

33 CFR Part 110

[Docket Number USCG-2016-0989]

RIN 1625-AA01

Anchorage Regulations; Passagassawakeag River, Belfast, ME; Corrections

AGENCY: Coast Guard, DHS.

ACTION: Correcting amendments.

SUMMARY: On April 20, 2020, the Coast Guard published a correcting amendment that corrected errors in the coordinates describing the boundaries of the special anchorage areas in the Passagassawakeag River in the vicinity of Belfast, ME. Unfortunately, that correcting amendment also contained errors for two of the coordinates describing the boundaries of Special Anchorage Area A. This document corrects those errors.

DATES: Effective August 18, 2020.

FOR FURTHER INFORMATION CONTACT: If you have questions about this document, call or email Mr. Craig D. Lapiejko, Coast Guard First District Waterways Management Branch, telephone 617-223-8351, email Craig.D.Lapiejko@uscg.mil.

SUPPLEMENTARY INFORMATION: On April 20, 2020, the Coast Guard published a correcting amendment titled “Anchorage Regulations; Passagassawakeag River, Belfast, ME; Corrections” (85 FR 21773). This amendment corrected the coordinates to Special Anchorage Area A and Special Anchorage Area B in the Passagassawakeag River, Belfast Bay, Belfast, Maine.

On April 23, 2020, the Coast Guard was made aware of a discrepancy with two of the coordinates describing the boundaries of Special Anchorage Area A by a cartographer from the National Oceanic and Atmospheric Administration (NOAA).

In the notice of proposed rulemaking we published to start the process of designating these special anchorage areas, we made it clear that they are intended to reduce the risk of vessel collisions and to promote safe and efficient travel in the navigable channel of the Passagassawakeag River to the mouth of Belfast Bay (82 FR 46004, October 3, 2017). The potential of vessels anchoring in the navigable channel is contrary to waterway safety and coordinates identifying any portion of Special Anchorage Area A in the navigable channel are errors that must be corrected promptly to reduce the risk of vessel collisions in the navigable channel. As we stated in the final rule, we made no changes from the proposed rule (84 FR 32269, 32270, July 8, 2019). This document corrects two of the coordinates in 33 CFR 110.4(d)(1) describing the boundaries of Special Anchorage Area A in the Passagassawakeag River.

We find good cause under 5 U.S.C. 553(d) to make this correction effective on its date of publication. Delaying its effective date would continue the risk of vessel collisions in the navigable channel based on errors in the coordinates describing the special anchorage areas.

List of Subjects in 33 CFR Part 110

Anchorage Regulations.

Accordingly, 33 CFR part 110 is corrected by making the following correcting amendments:

PART 110—ANCHORAGE REGULATIONS

1. The authority citation for part 110 continues to read as follows:

Authority: 33 U.S.C. 471, 2071; 46 U.S.C. 70034; 33 CFR 1.05-1; Department of Homeland Security Delegation No. 0170.1

§ 110.4 [Amended]

2. In § 110.4(d)(1), remove “longitude 069°58′54.0838″ W”, and add, in its place “longitude 068°58′54.0838″ W”, and remove “longitude 069°59′55.2686″ W” and add, in its place “longitude 068°59′55.2686″ W”.

Dated: August 5, 2020.
T.G. Allan Jr.,
Rear Admiral, U.S. Coast Guard, Commander, First Coast Guard District.

[FR Doc. 2020-17518 Filed 8-17-20; 8:45 am]

BILLING CODE 9110-04-P